DEPARTMENT OF HEALTH AND HUMAN SERVICES

Centers for Disease Control and Prevention

[Program Announcement 01119]

National Mass Fatalities Training and Response Center; Notice of Availability of Funds

A. Purpose

The Centers for Disease Control and Prevention (CDC) announces the availability of fiscal year (FY) 2001 funds for a grant program for a National Mass Fatalities Training and Response Center at Kirkwood Community College in Iowa. This program addresses the “Healthy People 2010” focus areas Educational and Community-Based Programs, Health Communication, and Public Health Infrastructure.

The purpose of the program is to establish a national training center to prepare and support communities, businesses, industry, government and disaster response agencies nationwide for the proper handling of fatalities and in responding to the needs of families and communities in the aftermath of mass fatalities incidents.

B. Eligible Applicant

Assistance will be provided only to Kirkwood Community College in Iowa. No other applications are solicited. Eligibility is limited to Kirkwood Community College because fiscal year 2001 Federal appropriations specifically direct CDC to award this college fund to develop a National Mass Fatalities Training and Response Center.

Note: Title 2 of the United States Code, Chapter 26, section 1611 states that an organization described in section 501(c)(4) of the Internal Revenue Code of 1986 that engages in lobbying activities is not eligible to receive Federal funds constituting an award, grant, cooperative agreement, contract, loan, or any other form.

C. Availability of Funds

Approximately $376,856 is available in FY 2001 to fund this award. It is expected that the award will begin on or about September 30, 2001, and will be made for a one-year project period. Funding estimates may change.

D. Where To Obtain Additional Information

To obtain business management technical assistance, contact: Sharron P. Orum, Lead Grants Management Specialist, Grants Management Branch, Procurement and Grants Office, Centers for Disease Control and Prevention, 2920 Brandywine Road, Room 3000, Atlanta, GA 30341-4146, Telephone number: (770) 488-2716, Email address: spo2@cdc.gov.

For program technical assistance, contact: Edwin Kent Gray, Chief, Emergency Preparedness and Response Branch, National Center for Environmental Health, Centers for Disease Control and Prevention, 4770 Buford Highway, Mailstop F38, Atlanta, GA 30341, Telephone number: (770) 488-7100, Email address: keg1@cdc.gov.

Dated: June 19, 2001.
John L. Williams,
Director, Procurement and Grants Office, Centers for Disease Control and Prevention (CDC).

[FR Doc. 01-15824 Filed 6-22-01; 8:45 am]

BILLING CODE 4163-18-P